DEPARTMENT OF TRANSPORTATION

Office of the Secretary

[Docket No. DOT-OST-2010-0025]

Notice of Request for Reinstatement of Previously Approved Information Collection

ACTION: Notice; Correction

SUMMARY: In compliance with the Paperwork Reduction Act of 1995 (44 U.S.C. 3501 et seq.), the Department published a 60-Day notice on February 2, 2010 (75 FR 5369) and a subsequent notice (“30-Day notice”) on June 25, 2010 (75 FR 36463). As noted in both notices, the Department incorrectly estimated a total of 1,057 respondents and annual burden of 1,311,000 hours. The Department also provided the incorrect address for which the public should request further information related to the relevant Information Collection Request. The Department is correcting the documents as set forth below.

Correction

FOR FURTHER INFORMATION CONTACT: Robert C. Ashby, Office of the Secretary, Office of Assistant General Counsel for Regulation and Enforcement, Department of Transportation, 1200 New Jersey Avenue, SE., Washington, DC 20590, (202) 366-9310 (voice) (202) 366-9313 (fax) or at bob.ashby@dot.gov.

SUPPLEMENTARY INFORMATION: Number of Respondents: 1,250.

Frequency of Response: Once/twice a year.

Estimated Total Burden on Respondents: 9,000 hours.

Authority: The Paperwork Reduction Act of 1995; 44 U.S.C. Chapter 35, as amended; and 49 CFR 1:48.

Issued in Washington, DC, on November 10, 2010.
Patricia Lawton,
Department PRA Clearance Officer, Office of the Chief Information Officer.

[FR Doc. 2010-28776 Filed 11-15-10; 8:45 am]

BILLING CODE 4910-9X-P